GENERAL SERVICES ADMINISTRATION

Office of Communications; Cancellation of an Optional Form by the Department of State

AGENCY: Office of Communications, GSA.

ACTION: Notice.

SUMMARY: The Department of State canceled the following Optional Form: OF 156E, Nonimmigrant Treaty/Inventory Visa Application.

This form is now a State Department form (DS Form 2051). You can request copies of the new form from: Department of State, IS/OIS/DIR, 2201 C Street, NW; Room B264NS, Washington, DC 20520-0264, 202.647.0596.

DATES: Effective September 6, 2001.

FOR FURTHER INFORMATION CONTACT: Mr. Charles Cunningham, Department of State, 202.312.9605.

Dated: August 27, 2001.
Barbara M. Williams,
Deputy Standard and Optional Forms Management Officer, General Services Administration.

[FR Doc. 01-22410 Filed 9-5-01; 8:45 am]

BILLING CODE 6820-34-M